DEPARTMENT OF COMMERCE

National Institute of Standards and Technology

Meetings: Weights and Measures National Conference

AGENCY: National Institute of Standards and Technology, Commerce.

ACTION: Announcement of public meeting of the National Conference on Weights and Measures.

SUMMARY: Notice is hereby given that the Annual Meeting of the National Conference on Weights and Measures will be held July 10 through 14, 2005, at the Hilton in Walt Disney World, Orlando, FL. This meeting is open to the public. Meeting registration and hotel information can be found on the NCWM Web site (http://www.ncwm.net). The National Conference on Weights and Measures is an organization of weights and measures enforcement officials of the states, counties, and cities of the United States, and private sector representatives. The Annual Meeting of the Conference brings together enforcement officials, other government officials, and representatives of business, industry, trade associations, and consumer organizations to discuss and vote upon subjects related to the field of weights and measures technology and administration. Pursuant to (15 U.S.C. 272(b)(6)), the National Institute of Standards and Technology supports the National Conference on Weights and Measures in order to promote uniformity among the States in the complexity of laws, regulations, methods of inspection, and testing of equipment that comprises regulatory control by the states of commercial weighing and measuring.

DATES: July 10-14, 2005.

ADDRESSES: The Hilton in Walt Disney World, Orlando, FL.

SUPPLEMENTARY INFORMATION: The National Conference on Weights and Measures (NCWM) has the following topics scheduled for discussion and vote at the Annual Meeting in July. This meeting is comprised of work sessions of the NCWM Committees to discuss and modify, if necessary, and to present items for vote on recommendations that are considered sufficiently developed. Please see NCWM Publication 16, which is available on the NIST Web site (http://www.nist.gov/owm) and the NCWM Web site (http://www.ncwm.net) for additional information. Written comments may be submitted to the Chief, NIST Weights and Measures Division, 100 Bureau Drive, Stop 2600, Gaithersburg, MD 20899-2600, or via email at owm@nist.gov.

The following provides a brief description of the voting items. Additional information items and subjects for further development will be presented to receive additional input. The NCWM Specifications and Tolerances Committee addresses proposed changes or amendments to NIST Handbook 44, “Specifications, Tolerances, and other Technical Requirements for Weighing and Measuring Devices.” The items address commercial weighing and measuring devices that may be used in commercial measurement applications, that is, devices that are normally used to buy from or sell to the general public or used for determining the quantity of products sold among businesses. Issues on the agenda of the NCWM Laws and Regulations Committee relate to NIST Handbook 130, “Uniform Laws and Regulations in the area of legal metrology and engine fuel quality,” and NIST Handbook 133, “Checking the Net Contents of Packaged Goods.”

NCWM Specifications and Tolerances Committee (Items Scheduled for a Vote)

General Code

Item 310-2: Clarify the tolerances to be applied during the type evaluation of weighing and measuring instruments; that is, special test tolerances do not apply to instruments undergoing type evaluation.

Scales Code

Item 320-1: Clarify the requirement's original intent for marking zero indications on scales and point-of-sale systems, where a zero-balance condition is represented by other than a digital zero indication.

Item 320-2: The recommendation is to drop the “#” mark as an acceptable symbol for “pound” on a receipt printed by a point-of-sale system, i.e., a cash register interfaced with a scale.

Item 320-3: Add a new user requirement to the Scales Code to address the proper interface of computing scales with electronic cash registers (ECR).

Item 320-4: Change the zero-tracking requirement (the amount of weight that can automatically be rezeroed) for class III scales manufactured after January 1, 2006, to be consistent with the international standard recommended by the International Organization of Legal Metrology (OIML).

Item 320-5: Provide guidelines on the placement of the required nominal capacity and scale division information on scales.

Item 320-8: Align the U.S. requirements for the time dependence (creep) test for scales and load cells with the OIML requirements.

Item 320-9: Include in NIST Handbook 44 the list of acceptable international symbols for marking operational controls, indications and features on scales.

Belt-Conveyor Scale Systems

Item 321-1: Add a requirement for users of belt-conveyor scales to prevent the reweighing of material that has already been weighed, but which may have fallen off the belt-conveyor before delivery to the customer.

Liquid-Measuring Devices

Item 330-1: Add a nonretroactive requirement to address “computer jump” on gasoline and diesel fuel dispensers as the price of gasoline and diesel fuel continues to increase.

Item 330-2: The recommended changes specify the flow rates for retail motor fuel (gasoline and diesel fuel) dispensers at which special tests are to be conducted at low flow rates. The flow rates for the special tests are specified for dispensers marked and those not marked with minimum flow rates.

Vehicle-Tank Meters

Item 331-2: Clarify that the unit price on a vehicle-tank meter does not have to be displayed continuously on a price-computing meter register. However, the unit price must be clearly displayed and understood by the operator and an observer of the delivery.

Item 331-3: The recommendation is to adopt a nonretroactive requirement for an automatic zero-set-back interlock on electronic vehicle-tank meters to force meters to be set back to zero for each delivery. Aircraft fueling is excluded from the requirement.

Item 331-4: Modify the “split-compartment” test for vehicle-tank meters and rename the test as a “product depletion” test. A specific tolerance is specified for the performance of the vapor (air) eliminator system.

Other Items

Item 360-1: Add a tentative code for livestock, meat, and poultry evaluation systems used to measure the fat content on carcasses and other quality characteristics that affect the price paid for the commodities. The proposed tentative code is based upon four recently completed ASTM standards that have been developed over the past three years.

Item 360-2: Amend the Fundamental Considerations in Handbook 44 to recognize additional standards that are acceptable for field standards and update the terminology and references for field standards, reference and secondary standards, corrections, and uncertainties. These changes are related to items 221-1 and 234-1 on the agenda of the Laws and Regulations Committee.

NCWM Laws and Regulations Committee (Items Scheduled for a Vote)

Item 221-1: Amend the Uniform Weights and Measures Law to modify definitions for different types of physical standards to be consistent with current international terminology and add definitions regarding traceability, accreditation, calibration, uncertainty, and other technical terms to recognize current roles of accredited laboratories. Additionally, amendments to the Uniform Weights and Measures Law are proposed to allow the recognition of calibrations performed by accredited laboratories and to broaden references to documentary standards to allow the recognition and use of documentary standards developed by other national and international standards developing organizations.

Item 234-1: Amend the Uniform Regulation for the Voluntary Registration of Servicepersons and Service Agencies regarding the references to the physical standards that are used and to expand the reference to national and international documentary standards that may be acceptable for the physical standards used by these service agencies. The proposed changes would also broaden the range of laboratories that could verify compliance of the physical standards to these documentary standards.

Item 237-1: This recommendation specifies how biodiesel fuels shall be identified on retail dispensers of the products, and specifies the documentation required to be provided to the retailer at the time of delivery of the biodiesel fuels and blends.

FOR FURTHER INFORMATION CONTACT: Henry V. Oppermann, Chief, NIST, Weights and Measures Division, 100 Bureau Drive, Stop 2600, Gaithersburg, MD 20899-2600. Telephone (301) 975-4004, or email: owm@nist.gov.

Dated: June 24, 2005.
Hratch G. Semerjian,
Acting Director.

[FR Doc. 05-13092 Filed 6-30-05; 8:45 am]

BILLING CODE 3510-13-P